FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 28, 2014.

A. Federal Reserve Bank of Kansas City (Dennis Denney, Assistant Vice President) 1 Memorial Drive, Kansas City, Missouri 64198-0001:

1. Tommy J. Lowery, Jeanice F. Lowry, Janice K. Slack, and Michael H. Slack, all of Oxford, Kansas, as members of the Catlin family group, to retain voting shares of Emerald Bank, Burden, Kansas.

B. Federal Reserve Bank of San Francisco (Gerald C. Tsai, Director, Applications and Enforcement) 101 Market Street, San Francisco, California 94105-1579:

1. John Jung Hun Chang, Duck Hee Chang, Wellwish Investments LLC, Ellis Eunrok Chang, all of Garden Grove, California, and Ellen Eunmi Chang, Bellevue, Washington, to retain voting shares of U & I Financial Corp., and thereby indirectly retain voting shares of UniBank, both in Lynnwood, Washington.

Board of Governors of the Federal Reserve System, February 10, 2014.
Michael J. Lewandowski,
Associate Secretary of the Board.

[FR Doc. 2014-03158 Filed 2-12-14; 8:45 am]

BILLING CODE 6210-01-P